DEPARTMENT OF ENERGY

Federal Energy Regulatory Commission

[Project No. 2662-012-CT; Project No. 12968-001-CT]

Notice of Availability of Draft Environmental Assessment

FirstLight Hydro Generating Company,
Project No. 2662-012-CT.
City of Norwich Dept. of Public Utilities,
Project No. 12968-001-CT.

In accordance with the National Environmental Policy Act of 1969 and the Federal Energy Regulatory Commission (Commission) regulations, 18 CFR part 380 (Order No. 486, 52 FR 47897), the Office of Energy Projects has reviewed competing applications for a new license for the Scotland Hydroelectric Project (Commission Project Nos. 2662-012 and 12968-001). The Scotland Hydroelectric Project is located on the Shetucket River, in Windham County, Connecticut. The existing licensee for the Scotland Hydroelectric Project No. 2662 is FirstLight Hydro Generating Company (FirstLight). The competitor applicant for the Scotland Hydroelectric Project No. 12968 is the City of Norwich Department of Public Utilities (Norwich Public Utilities).

Staff prepared a draft environmental assessment (EA), which analyzes the potential environmental effects of licensing the project with either FirstLight's or Norwich Public Utilities' proposals, and concludes that licensing the project with either proposal, with appropriate environmental protection measures, would not constitute a major federal action that would significantly affect the quality of the human environment.

A copy of the draft EA is available for review at the Commission in the Public Reference Room or may be viewed on the Commission's Web site at www.ferc.gov using the “eLibrary” link. Enter the docket number for either project, excluding the last three digits, in the docket number field to access the document. For assistance, contact Commission Online Support at CommissionOnlineSupport@ferc.gov; toll-free at 1-866-208-3676; or for TTY, 202-502-8659.

You may also register online at www.ferc.gov/docs-filing/esubscription.asp to be notified via email of new filings and issuances related to these or other pending projects. For assistance, contact Commission Online Support.

Any comments should be filed within 30 days from the date of this notice. Comments may be filed electronically via the Internet. See 18 CFR 385.2001(a)(1)(iii) and the instructions on the Commission's Web site http://www.ferc.gov/doc-filing/efiling.asp. Commenters can submit brief comments up to 6,000 characters, without prior registration, using the eComment system at http://www.ferc.gov/docs-filing/ecomment.asp. You must include your name and contact information at the end of your comments. For assistance, please contact Commission Online Support. Although the Commission strongly encourages electronic filing, documents may also be paper-filed. To paper-file, mail an original and seven copies to: Kimberly D. Bose, Secretary, Federal Energy Regulatory Commission, 888 First Street NE., Washington, DC 20426. Please affix Scotland Hydroelectric Project, P-2662-012 and P-12968-001 to all comments.

For further information, contact Janet Hutzel at (202) 502-8675 or by email at janet.hutzel@ferc.gov.

Dated: July 20, 2012.
Kimberly D. Bose,
Secretary.

[FR Doc. 2012-18438 Filed 7-27-12; 8:45 am]

BILLING CODE 6717-01-P